ENVIRONMENTAL PROTECTION AGENCY

[FRL-6950-3]

Agency Information Collection Activities: Proposed Collection; Comment Request; National Oil and Hazardous Substance Contingency Plan

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): National Oil and Hazardous Substances Pollution Contingency Plan, EPA ICR No. 1463.05, OMB No. 2050-0096, expiring on July 3, 2001. Before submitting the ICR to OMB for review and approval, EPA is soliciting comments on specific aspects of the proposed information collection as described below.

DATES: Comments must be submitted on or before May 8, 2001.

ADDRESSES: Comments must be submitted to the Community Involvement and Outreach Center, Office of Emergency and Remedial Response, 1200 Pennsylvania Avenue, NW., Ariel Rios Building, Washington, DC 20460, Mail Code: 5204-G, 703-603-8889. Persons interested in obtaining a copy of the ICR without charge may call the telephone number above to request a free copy.

FOR FURTHER INFORMATION CONTACT: Lois Gartner, telephone number: 703-603-8889, facsimile number: 703-603-9100, e-mail address: gartner.lois@epa.gov.

SUPPLEMENTARY INFORMATION: Affected entities: Entities potentially affected by this action are those states and members of the public that voluntarily participate in the remedial phase of the Superfund process and those members of the public that voluntarily participate in community involvement activities during some or all phases of the Superfund process.

Title: National Oil and Hazardous Substances Pollution Contingency Plan (OMB Control No. 2050-0096, EPA ICR No. 1463.05) expiring on July 3, 2001.

Abstract: The Comprehensive Environmental Response, Compensation, and Liability Act of 1980 (CERCLA or Superfund; 42 U.S.C. 9601 et seq.), as amended, establishes broad Federal authority to undertake removal and remedial actions in response to releases or threats of releases of hazardous substances and certain pollutants and contaminants into the environment. The National Contingency Plan sets forth requirements for carrying out the response authorities established under CERCLA. In addition, the Government Performance and Results Act of 1993 (GPRA) requires EPA to determine and report to Congress on its effectiveness, including community involvement activities.

For states, this ICR addresses the recordkeeping and reporting provisions of the NCP that affect those states that voluntarily participate in the remedial phase of the Superfund program. (Recordkeeping and reporting requirements of the pre-remedial phase—except those tied to community involvement—have been addressed in the ICR prepared for the revisions to the Hazard Ranking System (HRS) (OMB Control No. 2050-0095). Recordkeeping and reporting provisions for the removal program—except, again, those tied to community involvement—also are not included in this ICR because the Federal government has the lead for removal actions.) Remedial responses under the Superfund program fall into the pre-remedial phase (during which the extent of site contamination is assessed) and the remedial phase (during which investigations are conducted to identify and characterize contaminants present and to determine viable remedies for a site, the remedy is chosen and the cleanup or construction is completed). The NCP includes the following reporting and recordkeeping provisions for the remedial phase of the Superfund program:

(1) States that voluntarily take the lead in remedial activities at Superfund sites must conduct the activities in a manner consistent with CERCLA (40 CFR 300.515(a)). Therefore, at a state-lead site, the state must: develop a Remedial Investigation and Feasibility Study (RI/FS); prepare a Proposed Plan; issue a Record of Decision (ROD); complete community interviews; prepare a Community Involvement Plan (CIP), and provide information to the public; and

(2) States must identify and communicate potential state applicable or relevant and appropriate requirements (ARARs) at all Superfund sites within the state (40 CFR 300.400(g)).

In addition, this ICR addresses the recordkeeping and reporting provisions of the NCP that affect communities voluntarily providing their concerns to the lead agency about the Superfund process. This ICR also addresses the recordkeeping and reporting provisions imposed on communities when those communities provide feedback on community involvement activities that may be used for GPRA reporting. Community involvement related to NCP requirements and GPRA reporting may occur during all phases of the Superfund process including, pre-remedial, remedial, removal (short-term response actions), and operation and maintenance (which may include such activities as ground water and air monitoring, inspection and maintenance of the treatment equipment remaining on site, and maintenance of any security measures or institutional controls.) Specifically, members of the community surrounding a Superfund site may participate in community interviews (40 CFR 300.43(c)) conducted by EPA in order to prepare a CIP or serve on Technical Assistance Grant (TAG) groups, as provided for in Superfund Amendments and Reauthorization Act (SARA) of 1986, as well as in Community Advisory Groups (CAG), as provided in Superfund Administrative Reforms. Community groups focused on the technical assistance provided through the Technical Outreach Services for Communities (TOSC) program may also participate. Participation may also take the form of attending informal and formal meetings, open houses and public availability sessions, responding to questionnaires and telephone interviews, and/or participation in focus groups.

EPA uses the information provided by the states to ensure state actions are consistent with the provisions of CERCLA and SARA and that their decisions are protective of human health and the environment. EPA uses the information gathered from private citizens to plan activities geared to educating them where necessary, keeping them informed of activities within the community, and ensuring they have had an opportunity to assume an active role in the decision making process that affects their community. EPA also uses information from private citizens to obtain feedback on the effectiveness of community involvement activities, in order to improve those activities as needed. EPA believes involvement of the members of the community surrounding a Superfund site is critical to ensuring effective site cleanups.

Burden Statement

Burden means the total time, effort, or financial resources expended by persons to generate, maintain, retain, or disclose or provide information to or for a Federal agency. This includes the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA estimates that 40 new sites will be added to the NPL each year over the three-year period of this ICR. Of those 40 sites, EPA estimates ten will be state-lead cleanups. It is estimated that states will incur an annual burden of 6,026 hours per site, for a cost $226,939, of which $226,826 is reimbursed by EPA. States are reimbursed from the CERCLA Hazardous Substances Trust Fund (the Fund) for state-lead activities via cooperative agreements with EPA as provided in CERCLA section 104(d)(1). States are not reimbursed from the Fund for identification of state ARARs. It is also estimated that communities will incur a collective annual burden of 539 hours per site, for a cost of $20,298 (assuming the value of their time at $37.66) or an estimated average annual burden of 11 hours per person. While EPA does not reimburse community members for their participation, this ICR nonetheless estimates the monetary value of burden their participation imposes on them.

The burden data in this section are based on estimates by EPA personnel knowledgeable of the remedial program's recordkeeping and reporting requirements and the costs and level of effort required to meet the requirements.

Estimated Unit Burdens to State Governments

A “unit” burden is the burden incurred by a respondent for performing an individual site-specific activity. States incur burdens at: (1) an estimated ten new state-lead sites per year for several reporting and recordkeeping activities; and (2) all of the estimated 40 NPL sites on an annual basis with RI/FS starts for identifying and reporting ARARs.

The burden is calculated using a weighted average hourly rate of $37.66 multiplied by the number of hours to undertake a given activity. For purposes of this ICR, wage rates for state government personnel are estimated to be comparable to those for Federal government personnel. Labor rates for government workers reflect the median GS level salaries for managerial, technical and clerical positions. These rates include direct salary and fringe benefits (calculated at 60 percent of direct salary.) The hourly rates, as of January 2001, are:

Management (GS 13, Step 5):$49.82/hour.

Technical (GS 11, Step 5): $34.96/hour.

Clerical: $23.61/hour.

Based on these assumptions, the weighted hourly wage rate for state and Federal personnel is $37.66((0.1)X(49.82) + (0.8)X(34.96) + (0.1)X(23.61)).

At a state-lead site, states incur a burden for the following activities:

• Development of the RI/FS—5,200 hours/yr/site, $195,832.

• Development of the Proposed Plan—160 hours/yr/site, $6,025.

• Preparation of the ROD—360 hours/yr/site, $13,557.

• Development of the CIP—150 hours/yr/site, $5,649.

• Providing information to the public—153 hours/yr/site, $5,761.

At all sites, states incur a unit burden of three hours per site per year, or a cost of $113, for providing information on state ARARs.

Estimated Unit Burdens to Community Members

During their participation in the Superfund process, community members may perform any or all of the following activities (as with burden estimates for state activities, an hourly rate of $37.66 is used to estimate the value of community members' time):

• Participate in interviews—20 hours/yr/site, $753.

• Attend informal and formal meetings, open houses, and public information availability sessions—240 hours/yr/site, $9,038.

• Participate in community groups—160 hours/yr/site with such groups. $6,025.

• Respond to surveys—47 hours/yr/site, $1,770.

• Participate in focus groups—72 hours/yr/site with such groups, $2,711.

An agency may not conduct or sponsor, and a person is not required to respond to, a collection of information unless it displays a currently valid OMB control number. The OMB control numbers for EPA's regulations are listed in 40 CFR Part 9 and 48 CFR Chapter 15.

Comments

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Please send comments to the address appearing in the ADDRESSES segment of this notice.

Dated: February 22, 2001.
David Evans,
Acting Director, Office of Emergency and Remedial Response.

[FR Doc. 01-5861 Filed 3-8-01; 8:45 am]

BILLING CODE 6560-50-U